NATIONAL FOUNDATION ON THE ARTS AND THE HUMANITIES

Institute of Museum and Library Services

Submission for OMB Review, Comment Request, Proposed Collection: IMLS National Medals Nomination Forms

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the IMLS National Medals Nomination forms and instructions.

A copy of the proposed information collection request can be obtained by contacting the individual listed below in the ADDRESSES section of this notice.

DATES: Comments must be submitted to the office listed in the FOR FURTHER INFORMATION CONTACT section below on or before May 22, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: This notice proposes the clearance of the IMLS National Medals Nomination forms and instructions. The 60-day Notice for the “Notice of Proposed Information Collection Requests: 2019-2021 IMLS National Medals Nomination Forms was published in the Federal Register on November 27, 2017 (82 FR 56058). The agency has taken into consideration the one comment that was received under this notice.

The National Medals are designed to recognize outstanding libraries and museums that have made significant contributions in service to improve the wellbeing of their communities. These institutions exceed expected levels of community outreach beyond a single program or exhibit by building community cohesion and serving as catalysts for positive community change. Nominees should review the IMLS strategic plan (https://www.imls.gov/publications/transforming-communities-imls-strategic-plan-2018-2022) and highlight how their work aligns (e.g., promoting lifelong learning, building institutional capacity, increasing community access). We are particularly interested in enhanced services for veterans/military families, sustained opportunities for diverse youth and young professionals, and assistance to marginalized young families or seniors. Recipient institutions are honored at an awards ceremony that is held in Washington, DC.

Agency: Institute of Museum and Library Services.

Title: IMLS National Medals Nomination Forms.

OMB Number: 3137-0097.

Frequency: Once per year.

Affected Public: Library and Museum applicants.

Number of Respondents: 160.

Estimated Average Burden per Response: 9 hours.

Estimated Total Annual Burden: 1,440 hours.

Total Annualized Capital/Startup Costs: n/a.

Total Annual Costs: $40,219.

Dated: April 18, 2018.
Kim Miller,
Grants Management Specialist, Office of Grants Policy and Management.

[FR Doc. 2018-08407 Filed 4-20-18; 8:45 am]

BILLING CODE 7036-01-P